ENVIRONMENTAL PROTECTION AGENCY

40 CFR Part 300

[EPA-HQ-SFUND-1989-0007; FRL-8485-3]

National Oil and Hazardous Substances Pollution Contingency Plan; National Priorities List

AGENCY: Environmental Protection Agency (EPA).

ACTION: Notice of partial deletion of sites from the Otis Air National Guard Base/Camp Edwards Superfund Site from the National Priorities List.

SUMMARY: EPA New England Region (EPA) announces the deletion of 61 source area sites on the Otis Air National Guard Base/Camp Edwards Superfund Site from the National Priorities List (NPL). All 61 source area sites as listed in Table 1 were originally proposed for deletion (72 FR 41976) August 1, 2007, and encompass a total acreage of 482.1 acres. A source area site is defined by: soil; structures, if present; and does not include any contaminated groundwater plume that may be below the site. Otis Air National Guard Base/Camp Edwards is a Federal Facility Superfund Site known locally as the Massachusetts Military Reservation (MMR), so this notice will use MMR as the abbreviation to describe the entire Superfund Site. The United States Air Force is the lead agency at the MMR Superfund Site.

This partial deletion pertains to only the surface area of sites investigated (and in some cases cleaned-up) for soil contamination, and does not pertain to any of the 12 groundwater plumes associated with MMR Superfund Site. All other sites (including all contaminated groundwater plumes on the Site) not included in this notice will remain on the NPL. In the northern half of the MMR, there are source area sites and groundwater plumes associated with an investigation and cleanup program known as the Impact Area Groundwater Study Program which is being conducted under the authority of Safe Drinking Water Act Administrative Orders. These sites and groundwater plumes are not the subject of this partial deletion.

DATES: This partial deletion of the 61 source area sites on MMR is effective on October 26, 2007.

FOR FURTHER INFORMATION CONTACT: Bob Lim, Remedial Project Manager, U.S. Environmental Protection Agency, One Congress Street, Suite 1100 (HBT), Boston, Massachusetts 02114-2023, (617) 918-1392, Fax (617) 918-1291, e-mail: lim.robert@epa.gov.

SUPPLEMENTARY INFORMATION: Otis Air National Guard Base/Camp Edwards is a Federal Facility Superfund Site known locally as the Massachusetts Military Reservation (MMR), so this notice will use MMR as the abbreviation to describe the entire Superfund Site. MMR is located in portions of the towns of Bourne, Falmouth, Mashpee, and Sandwich.

This partial deletion pertains to the soil and, if present, structures at 61 sites ranging in size from half an acre to 80.7 acres. The total proposed area is 482.1 acres. Table 1 identifies structures as being present with an asterisk next to the site name. There would be 19 source area sites remaining. Even though some of the sites appear to be above contaminated groundwater plumes, this partial deletion does not include any plumes of contaminated groundwater because data shows that the sites are not related to the plumes. Currently eleven groundwater pump and treat cleanup remedies will continue operating until cleanup goals are met. In the northern half of MMR, there is a separate, ongoing investigation and cleanup program known as the Impact Area Groundwater Study Program (IAGWSP). These sites and groundwater plumes are not the subject of this Notice of Intent for Partial Deletion.

On August 1, 2007, EPA published a Notice of Intent for Partial Deletion in the Federal Register (72 FR 41976). EPA did not receive any comments on this proposal; therefore a Responsiveness Summary has not been prepared.

EPA identifies sites that appear to present a significant risk to public health, welfare, or the environment and maintains the NPL as the list of those sites. Any site deleted from the NPL remains eligible for Fund-financed actions in the unlikely event that conditions at the site warrant such action. Section 300.425(e)(3) of the NCP states that Fund-financed actions may be taken at sites deleted from the NPL. Deletion of a site from the NPL does not affect responsible party liability or impede Agency efforts to recover costs associated with response efforts. This partial deletion does not alter the status of all the remaining sites and groundwater plumes of the MMR Site which are not proposed for partial deletion and remain on the NPL.

Table 1.—List of Sites for Partial Deletion
CS-1 * | CS-12 * | FS-17
CS-1 (CG) * | CS-14 * | FS-18 *
CS-2 | CS-15 | FS-19
CS-2 (CG) * | CS-16/CS-17/DDOU * | FS-20 *
CS-3 * | CS-22 | FS-23
CS-3 (CG) * | CY-1 * | FS-25 *
CS-4 * | CY-3 | FS-26 (CG)
CS-4 (CG)/FS-1 (CG) * | FS-2 | FS-27
CS-5 * | FS-2 (CG) | LF-1 (CG)
CS-5 (CG) * | FS-3 * | LF-2 (CG)
CS-6 */FS-22 | FS-4 | LF-3
CS-6 (CG) * | FS-7 | LF-3 (CG)
CS-7 * | FS-9 * | LF-4
CS-7 (CG) * | FS-13 | LF-5
CS-8/FS-21 * | FS-14 | LF-6
CS-8 (CG) | FS-15 | SD-2/FS-6/FS-8
CS-9 | FS-16 * | SD-3/FTA-3/CY-4
CS-11 *
Key:
CS = Chemical Spill.
CY = Coal Yard.
DDOU = Drum Disposal Operable Unit.
FS = Fuel Spill.
FTA = Fire Training Area.
LF = Landfill.
SD = Storm Drain.
G = U.S. Coast Guard.
* Includes structure(s) at site.

List of Subjects in 40 CFR Part 300

Environmental protection, Air pollution control, Chemicals, Hazardous substances, Hazardous waste, Intergovernmental relations, Penalties, Reporting and recordkeeping requirements, Superfund, Water pollution control, Water supply.

Dated: September 25, 2007.
Robert W. Varney,
Regional Administrator, EPA New England.

For the reasons set forth in the preamble title 40 part 300 of the Code of Federal Regulations is amended as follows.

PART 300—[AMENDED]

1. The authority citation for part 300 continues to read as follows:

Authority: 33 U.S.C. 1321(c)(2); 42 U.S.C. 9601-9657; E.O. 12777, 56 FR 54757, 3 CFR 1991 Comp., p. 351; E.O. 12580, 52 FR 2923, 3 CFR 1987 Comp., p. 193.

Appendix B—[Amended]

2. Table 2 of appendix B to part 300 is amended by removing the entry for “Otis Air National Guard (USAF), Falmouth” and adding in its place the entry for “Otis Air National Guard Base/Camp Edwards” to read as follows:

Appendix B to Part 300—National Priorities List

Table 2.—Federal Facilities Section
State | Site name | City/County | Notes ᵃ
* * * * * * *
MA | Otis Air National Guard Base/Camp Edwards | Sandwich, Falmouth, Bourne, Mashpee | P
* * * * * * *
* * * * *
P = Sites with partial deletion(s).

* * * * *

[FR Doc. E7-21098 Filed 10-25-07; 8:45 am]

BILLING CODE 6560-50-P